DEPARTMENT OF STATE

[Public Notice 4519]

Amendment to Bureau of Educational and Cultural Affairs Request for Grant Proposals: Pre-Academic English Language Training and Academic Readiness Phase of the PLUS Program

SUMMARY: The Pre-Academic English Language Training and Academic Readiness Phase of the PLUS Program Grants Competition was announced on October 10, 2003 in the Federal Register (68 FR 58741). This announcement amends the original RFGP to change the international travel portion of the program budget from a round trip to a one-way ticket as previously stated in the budget guidelines section of the original announcement. All other terms and conditions in the previously published RFGP remain the same.

FOR FURTHER INFORMATION CONTACT: The Office of English Language Programs, ECA/A/L, Room 304, U.S. Department of State, SA-44, 301 4th Street, SW., Washington, DC 20547; Phone (202) 619-5886; E-mail kmjenson@pd.state.gov; or Internet address: http://exchanges.state.gov/education/RFGPs.

Dated: October 17, 2003.
C. Miller Crouch,
Principal Deputy Assistant Secretary, Bureau of Educational and Cultural Affairs, Department of State.

[FR Doc. 03-26791 Filed 10-22-03; 8:45 am]

BILLING CODE 4710-05-P